FEDERAL TRADE COMMISSION

Public Workshop: Identity Theft Victim Assistance

AGENCY: Federal Trade Commission.

ACTION: Initial notice requesting public comment and announcing public workshop.

SUMMARY: The Federal Trade Commission (the “FTC”), will hold a public workshop to identify relevant issues and examine potential solutions associated with assisting victims of identity theft. This Notice is also seeking public comments to inform the discussion that will take place at the workshop. This workshop will be the first in a series following the National Summit on Identity Theft last March. At that event, government, industry, and consumer advocates committed to work together to combat identity theft. Later sessions will be convened on the topics of law enforcement and prevention.

DATES: Written comments and requests to participate as a panelist in the workshop must be submitted on or before September 15, 2000. The workshop will be held on October 23, 2000, at the Federal Trade Commission, 600 Pennsylvania Avenue, NW, Washington, DC 20580.

ADDRESSES: Mail written comments to Secretary, Federal Trade Commission, Room H-159, 600 Pennsylvania Avenue, NW, Washington, DC 20580.

SUBMISSION OF DOCUMENTS: Comments should be captioned “Identity Theft Victim Assistance Workshop.” To enable prompt review and public access, paper submissions should include three copies and a version on diskette in ASCII, WordPerfect, or Microsoft Word format. Diskettes should be labeled with the name of the party and the name and version of the word processing program used to create the document. As an alternative to paper submissions, you may email comments to: idtworkshop@ftc.gov. Messages to that address will receive a reply in acknowledgment. Comments submitted in electronic form should be in ASCII, WordPerfect (please specify version), or Microsoft Word (please specify version) format.

Written comments will be available for public inspection in accordance with the Freedom of Information Act, 5 U.S.C. 552 and Commission regulations, 16 CFR part 4.9 on normal business days between the hours of 8:30 a.m. and 5 p.m. at 600 Pennsylvania Avenue, NW, Washington, DC 20580. The FTC will make this notice, and, to the extent possible, all papers or comments received in response to this notice available to the public through the Internet at www.ftc.gov.

FOR FURTHER INFORMATION CONTACT: Joanna Crane, Federal Trade Commission, phone: (202) 326-3258, email: jcrane@ftc.gov; or Helen Foster, Federal Trade Commission, (202) 326-2343, email: hfoster@ftc.gov.

SUPPLEMENTARY INFORMATION:

Section A. Background

The Identity Theft and Assumption Deterrence Act of 1998 directed the Federal Trade Commission to implement a comprehensive program to educate consumers and businesses about the crime of identity theft and to assist identity theft victims. Consumer-victims of identity theft currently face multiple hurdles in preventing further misuse of their identifying information and in correcting damage done to their credit histories, reputations and lives by identity thieves. These consumers often spend many hours over the course of months calling and writing to creditors, credit bureaus, debt collectors and others in an attempt to undo the damage caused by identity theft. Their struggle is made all the more difficult by differing and cumbersome dispute processes used by multiple creditors, credit bureaus and law enforcement agencies.

Section B. Public Forum

The Federal Trade Commission will hold a public workshop to examine existing consumer-victim assistance mechanisms and proposals for expanding and improving those processes. The workshop seeks to foster an open discussion of how industry, law enforcement, and government can work cooperatively to provide streamlined and coordinated assistance to consumer-victims of identity theft without unnecessarily burdening business. The workshop aims to explore consumer-victim assistance by creditors, consumer reporting agencies, debt collectors, and federal, state, and local government agencies. The Federal Trade Commission seeks a balanced discussion about how these entities might work together to assist consumer-victims of identity theft without sacrificing the accuracy or security of fraud investigations.

Last March, the United States Department of the Treasury, in conjunction with the Federal Trade Commission and other federal agencies, convened a National Identity Theft Summit, which sought to facilitate an ongoing dialogue on how government and industry could work together to investigate and prosecute identity theft as well as remediate the impact of identity theft on victims. Many participants at the Summit agreed that uniformity in the processing of victim disputes was one method of minimizing the burden on consumer-victims of identity theft. These participants suggested that the adoption of a single consumer affidavit form that would be acceptable to multiple creditors and credit bureaus would reduce victims' burdens. Similarly, some participants advocated a system which would allow a consumer-victim to place a single call to have a fraud alert placed upon their credit report at all three of the major national consumer reporting agencies. This workshop will explore these initiatives, as well as additional or alternative methods of assisting consumer-victims of identity theft.

To inform the FTC prior to the workshop, the agency seeks views and additional information on this subject from industry, consumer representatives, the academic community and the larger public in the United States, including views on the elements of fair and effective methods of assisting victims and repairing the damage caused by identity theft. Views are welcome on any aspect of this subject, though the following broad topics and possible subtopics are offered to help organize the comments:

Victim Assistance

(1) Identity theft victim assistance by consumer reporting agencies or credit bureaus.

(2) Identity theft victim assistance by banks, credit card issuers and other creditors, and debt collectors.

(3) Identity theft victim assistance by the communications industry (including local and long-distance telephone carriers and cellular service providers).

(4) Identity theft victim assistance by Internet e-merchants (including banks, credit card issuers, communications services providers and other creditors).

(5) The handling of identity theft complaints by law enforcement agencies.

Remediation

(6) Remediation of a fraudulent arrest/conviction record due to identity theft.

(7) Remediation of a fraudulent bankruptcy due to identity theft.

Possible Subtopics

(8) What can be done to respond to other harms (e.g., denial of employment, insurance, or mortgage) due to identity theft?

(9) What are some “best practices” that have been adopted in the customer service area for identity theft victims?

(10) How can the process by which identity theft victims clear their names be streamlined? Can the requirements be made more uniform? For example, is the use of a standardized fraud affidavit by creditors a possible solution? Is a centralized reporting process a practical option? Are there other ways to minimize the paperwork burden and/or the number of phone calls consumers have to make?

(11) Would making the process of clearing one's name less burdensome on victims also facilitate fraud? How do we distinguish between victims and perpetrators?

(12) How can we ensure that “fraud alerts” on credit reports are seen and honored by credit grantors, so as to reduce the likelihood of future harm to the victim?

Section C. Request To Participate

The FTC invites members of the public, industry, and other interested parties to participate as a panelist in the workshop. To be eligible to participate, you must file a request to participate by September 15, 2000. If the number of parties who request to participate in the workshop is so large that including all requestors would inhibit effective discussion among participants, staff of the FTC will select as participants a limited number of parties to represent the relevant interests. Selection will be based on the following criteria:

(1) The party submitted a request to participate by September 15, 2000.

(2) The party's participation would promote the representation of a balance of interests at the workshop.

(3) The party's participation would promote the consideration and discussion of the issues presented in the workshop.

(4) The party has expertise in issues raised in the workshop.

(5) The party adequately reflects the view of the affected interests which it purports to represent.

If it is necessary to limit the number of participants, those who requested to participate but were not selected will be afforded an opportunity, if at all possible, to present statements during a limited time period at the end of the session. The time allotted for these statements will be based on the amount of time necessary for discussion of the issues by the selected parties, and on the number of persons who wish to make statements. Requestors will be notified as soon as possible after September 15, 2000, if they have been selected to participate.

By direction of the Commission.
Donald S. Clark,
Secretary.

[FR Doc. 00-21186 Filed 8-18-00; 8:45 am]

BILLING CODE 6750-01-P